DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 17, 2019 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Child Nutrition Program Operations Study II (CN-OPS II): Year 4.

OMB Control Number: 0584-0607.

Summary of Collection: The objective of the Child Nutrition Program Operations Study II (CN-OPS-II): Year 4 is to collect timely data on policies, administrative, and operational issues on the Child Nutrition Programs. The study will help FNS obtain general descriptive data on the child nutrition programs' characteristics needed to help FNS respond to questions concerning those programs; obtain data related to program administration for designing and revising program regulations, managing resources, and reporting requirements; and obtain data related to program operations to help FNS develop and provide training and technical assistance to the State Agencies and School Food Authorities (SFAs) responsible for administering these programs. The Year 4 data collection will provide up-to-date information about Child Nutrition Program operations. This study is also necessary to implement Section 28(a)(1) of the Richard B. Russell National School Lunch Act which directs FNS to carry out annual national performance assessments of the National School Lunch and the School Breakfast Programs.

Need and Use of the Information: This study will survey State Child Nutrition and School Food Authority directors. FNS will use the data collected from the Year 4 study to describe and assess program operations, provide input for legislation and regulations on the Child Nutrition programs, and to develop pertinent technical assistance and training for program staff at the State and SFA levels. This data will also allow FNS to understand how recent and proposed legislation, regulations, policies, and initiatives change Child Nutrition program operations. The data collected from these studies will allow FNS to obtain a full national picture of program operations.

Description of Respondents: State, Local, or Tribal Government.

Number of Respondents: 2,248.

Frequency of Responses: Reporting: Annually.

Total Burden Hours: 4,073.

Kimble Brown,
Departmental Information Collection Clearance Officer.

[FR Doc. 2019-04935 Filed 3-15-19; 8:45 am]

BILLING CODE 3410-30-P